DEPARTMENT OF THE TREASURY

Office of the Comptroller of the Currency

12 CFR Part 5

[Docket ID OCC-2025-0768]

RIN 1557-AF47

National Bank Chartering; Correction

AGENCY: Office of the Comptroller of the Currency, Treasury.

ACTION: Proposed rule; correction.

SUMMARY: This document corrects the preamble to a proposed rule published in the Federal Register of January 12, 2026, regarding National Bank Chartering. This correction document addresses a docket number typographical error, fixes a footnote citation, and clarifies agency references. We are placing a corrected copy of the proposed rule in the docket.

DATES: The proposed rule published on January 12, 2026, at 91 FR 1098 is corrected as of January 14, 2026. Comments must be received by February 11, 2026.

FOR FURTHER INFORMATION CONTACT: Christopher Crawford, Acting Assistant Director; Marjorie Dieter, Counsel, Chief Counsel's Office, 202-649-5490, Office of the Comptroller of the Currency, 400 7th Street SW, Washington, DC 20219. If you are deaf, hard of hearing, or have a speech disability, please dial 7-1-1 to access telecommunications relay services.

SUPPLEMENTARY INFORMATION:

Correction

In proposed rule FR Doc. 2026-00372, beginning on page 1098 in the issue of January 12, 2026, make the following corrections:

1. In the Addresses section, on page 1098, in column 2, in line 8, remove “OCC-2025-0174” and add in its place “OCC-2025-0768”.

2. In the Supplementary Information section:

a. On page 1100, in column 1, in line 14, remove “agencies have” and add in its place “OCC has”.

b. On page 1100, in footnote 20, remove “Id” and add in its place “5 U.S.C. 601-612”.

c. On page 1100, in column 3, in line 14, remove “agencies” and add in its place “OCC”.

d. On page 1100, in column 3, in line 28, remove “agencies” and add in its place “OCC”.

e. On page 1101, in column 1, in line 7, remove “agencies” and add in its place “OCC”.

Dated: January 12, 2026.
Adam J. Cohen,
Senior Deputy Comptroller and Chief Counsel, Office of the Comptroller of the Currency.

[FR Doc. 2026-00603 Filed 1-13-26; 8:45 am]

BILLING CODE 4810-33-P